DEPARTMENT OF HEALTH AND HUMAN SERVICES

Administration for Children and Families

Realignment of the Office of the Deputy Assistant Secretary for Administration

AGENCY: Administration for Children and Families, HHS.

ACTION: Notice; realignment of the Office of the Deputy Assistant Secretary for Administration.

SUMMARY: The Administration for Children and Families (ACF) has realigned functions under the Office of the Deputy Assistant Secretary for Administration (ODASA). This realignment establishes the Office of Transformation, Business, and Management; establishes the Office of Government Contracting Services; realigns functions currently organized under the Immediate Office, Office of Workforce Planning and Development, and Office of Financial Services; and renames the Office of Financial Services to the Office of Grants Policy.

FOR FURTHER INFORMATION CONTACT: Ben Goldhaber, Deputy Assistant Secretary for Administration, Office of Administration, 330 C St. SW, Washington, DC 20201, (202) 795-7790.

SUPPLEMENTARY INFORMATION: This notice amends Part K of the Statement of Organization, Functions, and Delegations of Authority of the Department of Health and Human Services (HHS), Administration for Children and Families (ACF) as follows: Chapter KP, Office of the Deputy Assistant Secretary for Administration (ODASA), as last amended at 83 FR 24119-24122 (May 24, 2018):

I. Under Chapter KP, Office of the Deputy Assistant Secretary for Administration, delete section KP.10 Organization in its entirety and replace with the following:

KP.10 Organization. The Office of the Deputy Assistant Secretary for Administration is headed by the Deputy Assistant Secretary for Administration (DASA) who reports to the Assistant Secretary for Children and Families. The office is organized as follows:

• Office of the Deputy Assistant Secretary for Administration (KPA)

• Office of Transformation, Business, and Management (KPA)

• Office of Grants Policy (KPC)

• Office of Grants Management (KPG)

• Office of Diversity Management and Equal Employment Opportunity (KPH)

• Office of the Chief Information Officer (KPI)

• Office of Government Contracting Services (KPA)

II. Under Chapter KP, Office of the Deputy Assistant Secretary for Administration, delete section KP.20 Functions, paragraph A in its entirety and replace with the following:

KP.20 Functions. A. The Office of the Deputy Assistant Secretary for Administration (ODASA) directs and coordinates all administrative activities for the Administration for Children and Families (ACF). The Deputy Assistant Secretary for Administration serves as ACF's Chief Financial Officer; Chief Grants Management Officer; Federal Manager's Financial Integrity Act (FMFIA) Management Control Officer; Deputy Ethics Counselor; Personnel Security Representative; and Reports Clearance Officer. The Deputy Assistant Secretary for Administration serves as the ACF liaison to the Office of the General Counsel and, as appropriate, initiates action in securing resolution of legal matters relating to management of the agency and represents the Assistant Secretary on all administrative litigation matters.

The Deputy Assistant Secretary for Administration represents the Assistant Secretary in HHS and with other federal agencies and task forces in defining objectives and priorities, and in coordinating activities associated with federal reform initiatives. ODASA provides leadership of assigned ACF special initiatives arising from Departmental, federal, and non-federal directives to improve service delivery to customers. The Deputy Assistant Secretary for Administration provides day-to-day executive leadership and direction to the Office of the Deputy Assistant Secretary, Office of Grants Policy, Office of Grants Management, Office of Diversity Management and Equal Employment Opportunity, Office of the Chief Information Officer, and the Office of Government Contracting Services. The Office of the Deputy Assistant Secretary for Administration consists of the Associate Deputy Assistant Secretary for Administration, who provides executive leadership and direction to the Office of Transformation, Business, and Management, and the Chief of Staff.

VI. Under Chapter KP, Office of the Deputy Assistant Secretary for Administration, establish section KP.20 Functions, paragraph B, as follows:

B. The Office of Transformation, Business, and Management (TBM) directs and coordinates administrative activities for ACF and the Office of the Deputy Assistant Secretary for Administration, as well as provides leadership of special initiatives to improve service delivery to customers. The Office supports the Deputy Assistant Secretary for Administration in fulfilling ACF's Chief Financial Officer and FMFIA Management Control Officer responsibilities, and conducts Enterprise Risk Management and Program Integrity activities across ACF. The Office provides cross-cutting services to support ACF's human capital management, including organizational and employee development activities; facility, safety, security and emergency management activities; and activities to support the DASA's role as Deputy Ethics Counselor. TBM carries out cross-cutting activities to improve ACF service delivery, including business process engineering and data analytics. The Office manages operations for the Office of the Deputy Assistant Secretary for Administration, including human capital management, travel management, management operations and administration, and budget functions.

III. Under Chapter KP, Office of the Deputy Assistant Secretary for Administration, delete section KP.20 Functions, paragraph C in its entirety and replace with the following:

C. The Office of Grants Policy (OGP) provides agency-wide guidance to program and regional office staff on grant related issues, including developing and interpreting grants policy, coordinating strategic grants planning, facilitating policy advisory groups, and ensuring consistent grant program announcements. The Office prepares, coordinates, and disseminates action transmittals, information memoranda, and other policy guidance on grants management issues; provides grants administration technical assistance to ACF staff; and directs and/or coordinates management initiatives to improve financial administration of ACF mandatory and discretionary grant programs. OGP develops and administers grants management training for ACF program and grants staff, and administers grants management certification for ACF grants staff. The Office serves as the centralized receipt point for grant applications, performs initial application qualification reviews, provides standard guidance and training to ACF staff on recruiting grant reviewers and conducting grant panel reviews, and oversees logistical support for program-led objective reviews.

III. Under Chapter KP, Office of Administration, KP.20 Functions, delete Paragraph D in its entirety.

V. Under Chapter KP, Office of the Deputy Assistant Secretary for Administration, delete section KP.20 Functions, paragraph G in its entirety and replace with the following:

G. The Office of Grants Management (OGM), led by the Associate Deputy Assistant Secretary for Grants, supports the Deputy Assistant Secretary for Administration in fulfilling ACF's Chief Grants Management Officer Responsibilities. The Office serves as the principal office within ACF for ensuring the business and financial responsibilities of grants administration are carried out. OGM provides direct administration and management of ACF discretionary, formula, entitlement, and block grants; directs all grants and cooperative agreements awarded by ACF and ensures compliance with applicable statutes, regulations, and policies; and performs audit resolutions. The Office provides leadership and technical guidance to ACF program and regional Offices on grant operations and grants management issues. OGM interprets and implements financial policies, regulations, legislation, and appropriations law, and secures resolution of legal matters relating to grants administration and management. The Office coordinates with the Office of Grants Policy on crosscutting issues.

OGM provides agency-wide leadership and guidance to program officials and staff on grants management related issues, including assisting in developing, implementing, and evaluating program plans, strategies, regulations, program announcements, guidelines, and procedures applicable to ACF discretionary, formula, entitlement, and block grant programs. The Office provides oversight and direction in the establishment of appropriate State and grantee allocations.

OGM is responsible for directing the receipt and review of all competitive grant applications; developing proposals and/or coordinating management initiatives to improve the efficiency of both the financial administration and awarding of ACF discretionary, formula, entitlement, and block grant programs; and developing procedures for the monitoring and review of ACF grant programs. The Office serves as the lead for ACF in coordination and liaison with the Department, regional offices, and other Federal agencies on grants administration and management.

III. Under Chapter KP, Office of Administration, KP.20 Functions, delete Paragraph H in its entirety.

VI. Under Chapter KP, Office of the Deputy Assistant Secretary for Administration, establish section KP.20 Functions, paragraph K, as follows:

K. The Office of Government Contracting Services (OGCS) serves as ACF's centralized contracting office. OGCS analyzes ACF's mission needs in order to determine how best to utilize procured services to achieve the agency's strategic goals. The Office prepares annual acquisition strategies and specific acquisition plans, conducts market research, prepares documentation, and provides centralized coordination and review to support ACF contract awards. OGCS manages ACF's acquisition certification training programs and serves as the central point of contact for the ACF acquisition workforce. OGCS develops guidance and procedures, and ensures compliance with applicable regulations, rules, and policies.

Linda K. Hitt,
Executive Secretariat Certifying Officer.

[FR Doc. 2020-15517 Filed 7-16-20; 8:45 am]

BILLING CODE 4184-40-P